FEDERAL COMMUNICATIONS COMMISSION

47 CFR Part 73

[DA 02-3164; MB Docket No. 02-205; RM-10470; MB Docket No. 02-206; RM-10469; MB Docket No. 02-207; RM-10468]

Radio Broadcasting Services; Big Lake, TX, Leakey, TX, and Vici, OK

AGENCY: Federal Communications Commission.

ACTION: Final rule.

SUMMARY: This document allots FM channels Big Lake, Texas (MB Docket No. 02-206), Leakey, Texas (MB Docket No. 02-207), and Vici, Oklahoma (MB Docket No. 02-205), in response to three separate petitions filed by Robert Fabian that were combined in a multiple Notice of Proposed Rule Making. See 67 FR 53901, August 20, 2002. The coordinates for Channel 249A at Vici, OK are 36-08-59 and 99-17-53. The coordinates for Channel 246A at Big Lake, Texas, are 31-11-33 and 101-20-53. The coordinates for Channel 275A at Leakey, Texas, are 29-41-30 and 99-50-07. Although Mexican concurrence has been requested for the allotments at Big Lake and Leakey, Texas, notification has not been received. Therefore, operation with the facilities specified for Big Lake and Leakey herein are subject to modification, suspension, or termination without right to hearing, if found by the Commission to be necessary in order to conform to the 1992 USA-Mexico FM Broadcast Agreement or if specifically objected to by Mexico. With this action, this proceeding is terminated. A filing window for Channel 249A, Vici, OK, Channel 246A, Big Lake, TX and Channel 275A, Leakey, TX will not be opened at this time. Instead, the issue of opening these allotments for auction will be addressed by the Commission in a subsequent order.

DATES: Effective December 30, 2002.

FOR FURTHER INFORMATION CONTACT: Kathleen Scheuerle, Media Bureau, (202) 418-2180.

SUPPLEMENTARY INFORMATION: This is a summary of the Commission's Report and Order, MB Dockets 02-205, 02-206 and 02-207, adopted November 6, 2002, and released November 15, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by adding Vici, Channel 249A.

3. Section 73.202(b), the Table of FM Allotments under Texas, is amended by adding Channel 246A at Big Lake and Channel 275A at Leakey.

Federal Communications Commission.
John A. Karousos,
Assistant Chief, Audio Division, Media Bureau.

[FR Doc. 02-30503 Filed 12-2-02; 8:45 am]

BILLING CODE 6712-01-P